DEPARTMENT OF THE TREASURY

Office of Foreign Assets Control

Sanctions Actions Pursuant to Executive Orders 13382 and 13551

AGENCY: Office of Foreign Assets Control, Treasury.

ACTION: Notice.

SUMMARY: The Treasury Department's Office of Foreign Assets Control (OFAC) is publishing (1) the names of one individual and one entity whose property and interests in property are blocked pursuant to Executive Order (E.O.) 13551; (2) the name of one vessel in which one of these persons has an interest; (3) revised information on OFAC's list of Specially Designated Nationals and Blocked Persons (SDN List) to update identifiers for one entity previously designated pursuant to E.O. 13551; and (4) revised information on OFAC's SDN List to update identifiers for two individuals previously designated pursuant to E.O. 13382.

DATES: OFAC's actions described in this notice were effective July 23, 2015.

FOR FURTHER INFORMATION CONTACT: Assistant Director, Sanctions Compliance and Evaluation, Office of Foreign Assets Control, Department of the Treasury, Washington, DC 20220, Tel.: 202/622-2490.

SUPPLEMENTARY INFORMATION:

Electronic and Facsimile Availability

The Specially Designated Nationals and Blocked Persons List and additional information concerning OFAC sanctions programs are available on OFAC's Web site (www.treas.gov/ofac). Certain general information pertaining to OFAC's sanctions programs is also available via facsimile through a 24-hour fax-on-demand service, tel.: 202/622-0077.

Notice of OFAC Actions

On July 23, 2015, OFAC blocked the property and interests in property of the following two persons pursuant to E.O. 13551, “Blocking Property of Certain Persons With Respect to North Korea”:

Individual

1. LAI, Leonard (a.k.a. LAI, Yong Chian); DOB 16 Jun 1958; Passport E3251534E (Singapore) expires 20 Mar 2018 (individual) [DPRK].

Entity

2. SENAT SHIPPING LIMITED (a.k.a. SENAT SHIPPING & TRADING PTE LTD; a.k.a. SENAT SHIPPING AGENCY LTD; a.k.a. SENAT SHIPPING AND TRADING LTD; a.k.a. SENAT SHIPPING AND TRADING PRIVATE LIMITED), 36-02 A, Suntec Tower, 9, Temasek Boulevard, Singapore 038989, Singapore; 9 Temasek Boulevard, 36-02A, Singapore 038989, Singapore; Panama City, Panama; PO Box 957, Offshore Incorporations Centre Road Town, Tortola, Virgin Islands, British; Identification Number IMO 5179245; alt. Identification Number IMO 5405737 [DPRK].

In addition, on July 23, 2015, OFAC identified the following vessel as blocked property of Senat Shipping Limited, an entity whose property and interests in property are blocked pursuant to E.O. 13551:

Vessel

1. DAWNLIGHT; General Cargo; Mongolia flag; Vessel Registration Identification IMO 9110236 (vessel) [DPRK].

In addition, on July 23, 2015, OFAC published the following revised information on the SDN List to reflect new names or other information for one entity previously designated pursuant to E.O. 13551:

Aliases

1. OCEAN MARITIME MANAGEMENT COMPANY LIMITED (a.k.a. EAST SEA SHIPPING COMPANY; a.k.a. HAEYANG CREW MANAGEMENT COMPANY; a.k.a. KOREA MIRAE SHIPPING CO. LTD.), Dongheung-dong Changgwang Street, Chung-ku, PO Box 125, Pyongyang, Korea, North; Donghung Dong, Central District, PO Box 120, Pyongyang, Korea, North; No. 10, 10th Floor, Unit 1, Wu Wu Lu 32-1, Zhong Shan Qu, Dalian City, Liaoning Province, China; 22 Jin Cheng Jie, Zhong Shan Qu, Dalian City, Liaoning Province, China; 43-39 Lugovaya, Vladivostok, Russia; CPO Box 120, Tonghung-dong, Chung-gu, Pyongyang, Korea, North; Bangkok, Thailand; Lima, Peru; Port Said, Egypt; Singapore; Brazil; Hong Kong, China; Shenzhen, China; Identification Number IMO 1790183 [DPRK].

In addition, on July 23, 2015, OFAC published the following revised information on the SDN List to reflect new names or other information for two individuals previously designated pursuant to E.O. 13382, “Blocking Property of Weapons of Mass Destruction Proliferators and Their Supporters”:

Aliases

1. RA, Kyong-Su (a.k.a. CHANG, MYONG HO; a.k.a. CHANG, MYONG-HO; a.k.a. CHANG, MYO'NG-HO), Beijing, China; Tanchon Commercial Bank Representative to Beijing, China (individual) [NPWMD] (Linked To: TANCHON COMMERCIAL BANK).

2. KIM, Tong-Myo'ng (a.k.a. KIM, CHIN-SO'K; a.k.a. KIM, HYOK CHOL; a.k.a. KIM, TONG MYONG; a.k.a. “KIM, JIN SOK”); DOB 1964; alt. DOB 28 Aug 1962; nationality Korea, North; Passport 290320764 (individual) [NPWMD] (Linked To: TANCHON COMMERCIAL BANK).

Dated: July 23, 2015.
John E. Smith,
Acting Director, Office of Foreign Assets Control.

[FR Doc. 2015-19703 Filed 8-10-15; 8:45 am]

BILLING CODE 4810-AL-P